DEPARTMENT OF COMMERCE

National Oceanic and Atmospheric Administration

RIN 0648-XD373

Pacific Fishery Management Council; Public Meeting

AGENCY: National Marine Fisheries Service (NMFS), National Oceanic and Atmospheric Administration (NOAA), Commerce.

ACTION: Notice; public meeting.

SUMMARY: The Pacific Fishery Management Council's (Pacific Council) Highly Migratory Species Management Team (HMSMT) will hold a webinar, which is open to the public.

DATES: The HMSMT will hold the webinar on Tuesday, July 29, 2014 from 9 a.m. to noon, Pacific Time.

ADDRESSES: To attend the webinar, visit http://www.joinwebinar.com. Enter the Webinar ID: 493-503-175, and your name and email address (required). Once you have joined the webinar, choose either your computer's audio or select “Use Telephone.” If you do not select “Use Telephone” you will be connected to audio using your computer's microphone and speakers (VolP). It is recommended that you use a computer headset, as GoToMeeting allows you to listen to the meeting using your computer headset and speakers. If you do not have a headset and speakers, you may use your telephone for the audio portion of the meeting by dialing this TOLL number 1-480-297-0021 (not a toll-free number); phone audio access code 861-856-225; audio phone pin shown after joining the webinar. System requirements for PC-based attendees: Required: Windows® 7, Vista, or XP; for Mac®-based attendees: Required: Mac OS® X 10.5 or newer; and for mobile attendees: Required: iPhone®, iPad®, Android™ phone or Android tablet (See the GoToMeeting Webinar Apps). You may also send an email to Mr. Kris Kleinschmidt or contact him at 503-820-2280 for technical assistance. A listening station will also be provided at the Pacific Council office.

Council address: Pacific Council, 7700 NE Ambassador Place, Suite 101, Portland, OR 97220-1384.

FOR FURTHER INFORMATION CONTACT: Dr. Kit Dahl, Pacific Council; telephone: (503) 820-2422.

SUPPLEMENTARY INFORMATION: The HMSMT will discuss the development of alternatives and analyses for issues to be addressed as part of the HMS biennial harvest specifications and management measures process. Of the issues identified at the June Pacific Council meeting, the Pacific Council assigned highest priority to reducing recreational catch of Pacific bluefin tuna and identifying take caps (“hard caps”) for selected protected species (marine mammals and sea turtles) for the California drift gillnet fishery. The HMSMT may also discuss exempted fishing permit review and monitoring requirements for proposed management measures. The HMSMT will report on their work at the September 12-17, 2014, Council meeting in Spokane, WA.

Public comments during the webinar will be received from attendees at the discretion of the HMSMT Chair.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt at (503) 820-2280 at least 5 days prior to the meeting date.

Dated: July 8, 2014.
Tracey L. Thompson,
Acting Deputy Director, Office of Sustainable Fisheries, National Marine Fisheries Service.

[FR Doc. 2014-16215 Filed 7-10-14; 8:45 am]

BILLING CODE 3510-22-P